ENVIRONMENTAL PROTECTION AGENCY

[EPA-HQ-OAR-2010-0469; FRL-9179-7

Agency Information Collection Activities: Proposed Collection; Comment Request; Information Request for National Emission Standards for Hazardous Air Pollutants (NESHAP) for Secondary Aluminum Production Residual Risk and Technology Review (RTR); EPA ICR No. 2400.01

AGENCY: Environmental Protection Agency (EPA).

ACTION: Notice.

SUMMARY: In compliance with the Paperwork Reduction Act (PRA) (44 U.S.C. 3501 et seq.), this action announces that EPA is planning to submit a request for a new Information Collection Request (ICR) to the Office of Management and Budget (OMB). Before submitting the ICR to OMB for review and approval, EPA is soliciting comments on the proposed information collection as described below.

DATES: Comments must be submitted on or before September 24, 2010.

ADDRESSES: Submit your comments, identified by Docket ID No. EPA-HQ-OAR-2010-0469, by one of the following methods:

• www.regulations.gov: Follow the on-line instructions for submitting comments.

• E-mail: a-and-r-docket@epa.gov.

• Fax: (202) 566-1741.

• Mail: Air and Radiation Docket and Information Center, Environmental Protection Agency, Mailcode: 2822T, 1200 Pennsylvania Ave., NW., Washington, DC 20460.

• Hand Delivery: Air and Radiation Docket and Information Center, U.S. EPA, Room 3334, EPA West Building, 1301 Constitution Avenue, NW., Washington, DC. Such deliveries are only accepted during the Docket's normal hours of operation, and special arrangements should be made for deliveries of boxed information.

Instructions: Direct your comments to Docket ID No. EPA-HQ-OAR-2010-0469. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or e-mail. The www.regulations.gov Web site is an “anonymous access” system, which means EPA will not know your identity or contact information unless you provide it in the body of your comment. If you send an e-mail comment directly to EPA without going through www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket, visit the EPA Docket Center homepage at http://www.epa.gov/epahome/dockets.htm.

FOR FURTHER INFORMATION CONTACT: Rochelle Boyd, Sector Policies and Program Division, (D243-02), Environmental Protection Agency, Research Triangle Park, NC 27711; telephone number: (919) 541-1390; fax number: (919) 541-3207; e-mail address: boyd.rochelle@epa.gov.

SUPPLEMENTARY INFORMATION:

How can I access the docket and/or submit comments?

EPA has established a public docket for this ICR under Docket ID No. EPA-HQ-OAR-2010-0469, which is available for online viewing at www.regulations.gov, or in person viewing at the Air and Radiation Docket in the EPA Docket Center (EPA/DC), EPA West, Room 3334, 1301 Constitution Ave., NW., Washington, DC. The EPA/DC Public Reading Room is open from 8:30 a.m. to 4:30 p.m., Monday through Friday, excluding legal holidays. The telephone number for the Reading Room is 202-566-1744, and the telephone number for the Air and Radiation Docket is 202-566-1742.

Use www.regulations.gov to obtain a copy of the draft collection of information, submit or view public comments, access the index listing of the contents of the docket, and to access those documents in the public docket that are available electronically. Once in the system, select “search,” then key in the docket ID number identified in this document.

What information is EPA particularly interested in?

Pursuant to PRA section 3506(c)(2)(A), EPA specifically solicits comments and information to enable it to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology (e.g., permitting electronic submission of responses).

What should I consider when I prepare my comments for EPA?

You may find the following suggestions helpful for preparing your comments.

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by EPA, be sure to identify the docket ID number assigned to this action in the subject line on the first page of your response. You may also provide the name, date, and Federal Register citation.

What information collection activity or ICR does this apply to?

Affected entities: Respondents affected by this action are owners/operators of secondary aluminum production facilities. The secondary aluminum production source category includes any establishment using clean charge, aluminum scrap, or dross from aluminum production, as the raw material and performing one or more of the following processes: Scrap shredding, scrap drying/delacquering/decoating, thermal chip drying, furnace operations (i.e., melting, holding, sweating, refining, fluxing, or alloying), recovery of aluminum from dross, in-line fluxing, or dross cooling. A secondary aluminum production facility may be independent or part of a primary aluminum production facility. For purposes of this subpart, aluminum die casting facilities, aluminum foundries, and aluminum extrusion facilities are not considered to be secondary aluminum production facilities if the only materials they melt are clean charge, customer returns, or internal scrap, and if they do not operate sweat furnaces, thermal chip dryers, or scrap dryers/delacquering kilns/decoating kilns. The federal emission standard that is the subject of this information collection is National Emission Standards for Hazardous Air Pollutants for Secondary Aluminum Production (40 CFR part 63, subpart RRR).

The North American Industry Classification System (NAICS) codes for respondents affected by the information collection are listed in the following table.

Category | Description | NAICS code
Industry | Secondary Smelting and Alloying of Aluminum | 331314
| Primary Aluminum Production | 331312
| Aluminum Sheet, Plate and Foil Manufacturing Facilities | 331315
| Aluminum Extruded Product Manufacturing Facilities | 331316
| Other Aluminum Rolling and Drawing Facilities | 331319
| Aluminum Die Casting Facilities | 331521
| Aluminum Foundry Facilities | 331524

In addition to the source categories listed in the table above, operations with sweat furnaces are also affected by this information collection request and can be included in additional NAICS codes, 562920, 493110, 811490, 423320, 423930, 423120, 423140, 339999, 488410, etc.

Title: Information Collection Request for the National Emission Standards for Hazardous Air Pollutants for Secondary Aluminum Production Risk and Technology Review.

ICR numbers: EPA ICR No. 2400.01.

ICR status: This ICR is for a new information collection activity. An Agency may not conduct or sponsor, and a person is not required to respond to, a collection of information, unless it displays a currently valid OMB control number. The OMB control numbers for EPA's regulations in title 40 of the CFR, after appearing in the Federal Register when approved, are listed in 40 CFR part 9, and are displayed either by publication in the Federal Register or by other appropriate means, such as on the related collection instrument or form, if applicable. The display of OMB control numbers in certain EPA regulations is consolidated in 40 CFR part 9.

Abstract: This ICR is being conducted by EPA's Office of Air and Radiation to assist the EPA Administrator, as required by sections 112(d)(6) and 112(f) of the Clean Air Act (CAA), as amended, to determine the current affected population of secondary aluminum production processes and to reevaluate emission standards for this source category. This one-time collection will solicit information under authority of CAA section 114. EPA intends to provide the survey in electronic format. The survey will be sent to all companies identified as owning or operating secondary aluminum production facilities through information available to the Agency. EPA envisions allowing recipients 60 days to respond to the survey. Non-confidential information from this ICR would be made available to the public. The existing subpart RRR NESHAP regulates major sources of hazardous air pollutants (HAP) emissions from aluminum scrap shredders, thermal chip dryers, scrap dryers/delacquering kilns/decoating kilns, group 2 furnaces, sweat furnaces, dross only furnaces, rotary dross coolers, and secondary aluminum processing units (SAPU). SPAU include group 1 furnaces and in-line fluxers. Area sources of HAP are regulated only with respect to emissions of dioxins/furans from thermal chip dryers, scrap dryers/delacquering kilns/decoating kilns, sweat furnaces, and SPAU.

Section 112(f)(2) of the CAA directs EPA to conduct risk assessments on each source category subject to maximum achievable control technology (MACT) standards and determine if additional standards are needed to reduce residual risks. The section 112(f)(2) residual risk review is to be done within 8 years after promulgation. Section 112(d)(6) of the CAA requires EPA to review and revise the MACT standards, as necessary, taking into account developments in practices, processes, and control technologies. The section 112(d)(6) technology review is to be done at least every 8 years. The NESHAP for Secondary Aluminum Production (40 CFR part 63, subpart RRR) was first promulgated in 2000. In light of the statutory requirements for reviewing emission standards under CAA section 112, the Agency has concluded that obtaining updated information is important to inform its decisions on the secondary aluminum production NESHAP RTR.

Additional facility-specific information is needed to better characterize emission sources, refine the risk analysis, and develop revisions to the NESHAP, as appropriate. An update of the 2005 National-Scale Air Toxics Assessment/National Emissions Inventory (NATA/NEI) data sets and more specific information needed for further rulemaking would be derived from the ICR. Information collected directly from companies owning or operating secondary aluminum production facilities will have the greatest practical utility for purposes of performing the RTR as information from the affected industry will contain the most up-to-date, accurate, and reliable equipment and operational data for each facility.

It is essential for the EPA to have an updated database reflecting the post-MACT configurations of secondary aluminum manufacturing affected sources and air pollution control systems to use in the regulatory analyses required under CAA sections 112(d) and (f).

The data collected will be used to update facility information and equipment configuration, develop new estimates of the population of affected units, and identify the control measures and emission limits being used for compliance with the existing NESHAP. This information, along with existing permitted emission limits will be used to establish a baseline for purposes of the regulatory reviews. The emissions test data collected will be used to verify the performance of existing control measures, examine variability in emissions, evaluate emission limits, and to determine the performance of superior control measures that may be considered for purposes of reducing residual risk. Emissions data may also be used along with process and emission unit details to consider subcategories for further regulation and to estimate the environmental and cost impacts associated with any regulatory options considered.

In addition to informing the RTR regulatory analyses for the secondary aluminum production industry, it is EPA's intent that the NATA/NEI updates supplied through this information collection be used in future versions of the NATA/NEI and its successor, the Emissions Inventory System. The NEI is used by EPA, States, and the public for a variety of purposes including tracking of national trends in emissions of criteria and hazardous air pollutants. More information in the NEI can be found at http://www.epa.gov/air/data/neidb.html.

This collection of information is mandatory under CAA section 114 (42 U.S.C. 7414). All information submitted to EPA pursuant to this ICR for which a claim of confidentiality is made is safeguarded according to Agency policies in 40 CFR part 2, subpart B.

Burden Statement: The projected cost and hour burden for industry for this one-time collection of information is $3,430,000 and 36,248 hours. This burden is based on an estimated 400 respondents to the survey. This ICR does not include any requirements that would cause the respondents to incur either capital or start-up costs. Operation and maintenance costs of $1200 are estimated for postage to mail in the survey response to EPA. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The ICR provides a detailed explanation of the Agency's estimate, which is only briefly summarized here.

Estimated total number of potential respondents: 400.

Frequency of response: One time.

Estimated total average number of responses for each respondent: 1.

Estimated total annual burden hours: 36,248.

Estimated total annual burden costs: $3,430,000.

What is the next step in the process for this ICR?

EPA will consider the comments received and amend the ICR as appropriate. The final ICR package will then be submitted to OMB for review and approval pursuant to 5 CFR 1320.12. At that time, EPA will issue another Federal Register notice pursuant to 5 CFR 1320.5(a)(1)(iv) to announce the submission of the ICR to OMB and the opportunity to submit additional comments to OMB.

If you have any questions about this ICR or the approval process, please contact the technical person listed under FOR FURTHER INFORMATION CONTACT.

Dated: July 6, 2010.
Peter Tsirigotis,
Director, Sector Policies and Programs Division.

[FR Doc. 2010-18232 Filed 7-23-10; 8:45 am]

BILLING CODE 6560-50-P